INTERNATIONAL TRADE COMMISSION

[Investigation Nos. 701-TA-748-749 and 731-TA-1726-1727 (Final)]

Float Glass Products From China and Malaysia; Cancellation of Hearing for Antidumping and Countervailing Duty Investigations

AGENCY: United States International Trade Commission.

ACTION: Notice.

DATES: February 3, 2026.

FOR FURTHER INFORMATION CONTACT: Kristina Lara (202-205-3386), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective July 15, 2025, the Commission established a schedule for the final phase of the subject antidumping and countervailing duty investigations (90 FR 38991, August 13, 2025). Due to the lapse in appropriations and ensuing cessation of Commission operations, the Commission issued a revised schedule (90 FR 52999, November 24, 2025). Due to the Department of Commerce's tolling of case deadlines by an additional 21 calendar days, the Commission issued a second revised schedule (90 FR 57483, December 11, 2025). On January 30, 2026, counsel for Vitro Flat Glass, LLC and Vitro Meadville Flat Glass, LLC (“Vitro”) filed a request that the Commission cancel the scheduled hearing for this proceeding, as well as a request to participate in the hearing, if held. It indicated a willingness to respond to any Commission questions in lieu of an actual hearing given that no other parties had submitted a request to appear at the hearing. Consequently, the public hearing in connection with this proceeding, scheduled to begin at 9:30 a.m. on February 5, 2026, is cancelled. Parties to this proceeding should respond to any written questions posed by the Commission in their posthearing briefs, which are due to be filed on February 12, 2026.

For further information concerning this proceeding, see the Commission's notice cited above and the Commission's Rules of Practice and Procedure, part 201, subparts A and B (19 CFR part 201), and part 207, subparts A and C (19 CFR part 207).

Authority: This proceeding is being conducted under authority of title VII of the Tariff Act of 1930; this notice is published pursuant to § 207.21 of the Commission's rules.

By order of the Commission.
Issued: February 3, 2026.
Lisa Barton,
Secretary to the Commission.

[FR Doc. 2026-02404 Filed 2-5-26; 8:45 am]

BILLING CODE 7020-02-P